DEPARTMENT OF TRANSPORTATION

Federal Aviation Administration

14 CFR Parts 25, 121, and 129

[Docket No. FAA-2006-24281; Notice No. 06-04]

RIN 2120-AI05

Widespread Fatigue Damage

AGENCY: Federal Aviation Administration (FAA), DOT.

ACTION: Notice of proposed rulemaking (NPRM); extension of comment period.

SUMMARY: This action extends the comment period for an NPRM that was published on April 18, 2006. In that document, the FAA proposed to require that design approval holders establish operational limits for transport category airplanes in order to prevent widespread fatigue damage in those airplanes. This extension is a result of requests from the Air Transport Association of America, Inc. (ATA), Airbus, Boeing Commercial Airplanes, Cargo Airline Association (CAA), National Air Carrier Association, Inc. (NACA), and Lynden Air Cargo to extend the comment period for the proposal.

DATES: Comments must be received by September 18, 2006.

ADDRESSES: You may send comments identified by Docket Number FAA-2006-24281 using any of the following methods:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Walter Sippel, ANM-115, Airframe and Cabin Safety, Federal Aviation Administration, 1601 Lind Avenue, SW., Renton, Washington 98055-4056, telephone: (425-227-2116); facsimile (425-227-1232), e-mail walter.sippel@faa.gov.

SUPPLEMENTARY INFORMATION:

Comments Invited

The FAA invites interested persons to participate in this rulemaking by submitting written comments, data, or views. We also invite comments relating to the economic, environmental, energy, or federalism impacts that might result from adopting the proposals in this document. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the Web address in the ADDRESSES section.

Privacy Act: Using the search function of our docket Web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Before acting on this proposal, we will consider all comments we receive by the closing date for comments. We will consider comments filed late if it is possible to do so without incurring expense or delay. We may change this proposal in light of the comments we receive.

If you want the FAA to acknowledge receipt of your comments on this proposal, include with your comments a pre-addressed, stamped postcard on which the docket number appears. We will stamp the date on the postcard and mail it to you.

Availability of Rulemaking Documents

You can get an electronic copy using the Internet by:

(1) Searching the Department of Transportation's electronic Docket Management System (DMS) web page (http://dms.dot.gov/search);

(2) Visiting the FAA's Regulations and Policies Web page at http://www.faa.gov/regulations_policies/; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and identify electronically within the disk or CD-ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Background

On April 18, 2006, the Federal Aviation Administration (FAA) published Notice No. 06-04, Widespread Fatigue Damage (71 FR 19928). Comments on that document were to be received by July 17, 2006.

Six petitioners, the Air Transport Association of America, Inc. (ATA), Airbus, the Cargo Airline Association (CAA), Boeing Commercial Airplanes, the National Air Carrier Association, Inc. (NACA), and Lynden Air Cargo, have requested that the FAA extend the comment period for Notice No. 06-04. Many of these petitioners said that Notice No. 06-04 as well as other Aging Aircraft proposals and related guidance material present complex issues that would take time to review together.

Lynden Air Cargo requested an extension of 180 days, and all other petitioners requested an extension of 90 days to fully evaluate this proposal and send comments to the FAA.

The FAA concurs with the petitioners' requests for an extension of the comment period on Notice No. 06-04, but we believe that an extension of 90 days or more would be excessive. As Notice No. 06-04 presents some complex issues, the FAA initially provided a 90-day comment period. Although the FAA agrees that additional time may facilitate industry's assessment of the combined impacts of Notice 06-04 and other Aging Aircraft proposals and related guidance material, we must balance that need against the need to proceed expeditiously with the Widespread Fatigue Damage rulemaking. We believe that an additional 60 days would be adequate for the petitioners to review and comment on Notice No. 06-04. Absent unusual circumstances, the FAA does not anticipate any further extension of the comment period for this rulemaking.

Extension of Comment Period

In accordance with § 11.47(c) of Title 14, Code of Federal Regulations, the FAA has reviewed the petitions made by ATA, Airbus, Boeing Commercial Airplanes, CAA, NACA, and Lynden Air Cargo for extension of the comment period to Notice No. 06-04. These petitioners have shown substantial interest in the proposed rule and have provided good cause for the extension. The FAA has determined that extension of the comment period is consistent with the public interest and that good cause exists for taking this action.

Accordingly, the comment period for Notice No. 06-04 is extended to September 18, 2006.

Issued in Washington, DC, on June 29, 2006.
John M. Allen,
Acting Director, Flight Standards Service, Aviation Safety.
Dorenda D. Baker,
Acting Director, Aircraft Certification Service, Aviation Safety.

[FR Doc. E6-10597 Filed 7-6-06; 8:45 am]

BILLING CODE 4910-13-P